DEPARTMENT OF ENERGY

Federal Energy Regulatory Commission

[Docket No. RP04-360-000]

Maritimes and Northeast Pipeline, L.L.C.; Notice of Technical Conference

August 24, 2004.

In an order issued on July 29, 2004,¹ the Commission directed staff to convene a technical conference to discuss Maritimes and Northeast Pipeline, L.L.C.'s proposed non-rate modifications to its tariff including, but not limited to, revisions to the fuel retainage percentage, revisions to the right of first refusal, and the proposed action alert.

¹ Maritimes and Northeast Pipeline, L.L.C., 108 FERC ¶ 61,087 (2004).

A technical conference will be held on Wednesday, September 22, 2004, beginning at 9:30 a.m. (e.s.t.), in a room to be designated at the offices of the Federal Energy Regulatory Commission, 888 First Street, NE., Washington DC 20426.

All interested parties and staff are permitted to attend. For further information please contact: David Faerberg at (202) 502-8275 or e-mail david.faerberg@ferc.gov.

Magalie R. Salas,
Secretary.

[FR Doc. E4-2025 Filed 9-1-04; 8:45 am]

BILLING CODE 6717-01-P